DEPARTMENT OF DEFENSE

Department of the Army, Corps of Engineers

Intent To Prepare a Draft Environmental Impact Statement for the Proposed Arboretum Project, in Rancho Cordova, Sacramento County, CA, Permit Application Number SPK-2007-00133; Withdrawal

AGENCY: U.S. Army Corps of Engineers, DoD.

ACTION: Notice of intent; withdrawal.

SUMMARY: The U.S. Army Corps of Engineers, Sacramento District (Corps) is withdrawing its notice of intent (NOI) to prepare an environmental impact statement (EIS) for the Arboretum Project in Sacramento County, California.

DATES: The notice of intent to prepare an EIS published in the Federal Register on December 16, 2008 (73 FR 76348), is withdrawn as of April 2, 2024.

ADDRESSES: U.S. Army Corps of Engineers, Sacramento District, Regulatory Division (CESPK-RD), 1325 J Street, Sacramento, CA 95814-2992.

FOR FURTHER INFORMATION CONTACT: Questions concerning this notice should be directed to Regional Regulatory Permit Specialist, Leah M. Fisher, at (916) 557-6639 or leah.m.fisher@usace.army.mil. Please refer to identification number SPK-2007-00133.

SUPPLEMENTARY INFORMATION: An NOI to prepare an EIS for the Arboretum Project was published in the Federal Register on December 16, 2008 (73 FR 76348). The proposed project requires Department of the Army authorization under section 404 of the Clean Water Act. Since publication of the NOI, the Corps has requested additional information from the project sponsor to continue the EIS process. To date, no additional information has been received. As a result, the Corps has withdrawn the permit application and is terminating the EIS process, in accordance with Corps regulations at 33 CFR part 230, appendix C(2) and 33 CFR part 325, appendix B(8)(g).

David R. Hibner,
Programs Director.

[FR Doc. 2024-06909 Filed 4-1-24; 8:45 am]

BILLING CODE 3720-58-P